DEPARTMENT OF TRANSPORTATION

Federal Aviation Administration

Notice of Intent To Prepare an Environmental Impact Statement; Port Columbus International Airport, Columbus, OH

AGENCY: Federal Aviation Administration, Department of Transportation

ACTION: Notice of Intent; notice of scoping meetings.

SUMMARY: The Federal Aviation Administration (FAA) is issuing this Notice of Intent to announce publicly that an Environmental Impact Statement (EIS) will be prepared and considered for the proposed construction of a replacement runway, proposed terminal development, ancillary development, and air traffic procedures developed in the Part 150 Study for the replacement runway. Associated improvements involved with the proposed project are described below.

FOR FURTHER INFORMATION CONTACT: Ms. Katherine S. Jones, Federal Aviation Administration, Detroit Airports District Office, 11677 South Wayne Road, Suite 107, Romulus, Michigan 48174, (734) 229-2958. Project Web site: http://www.airportsites.net/CMH-EIS.

SUPPLEMENTARY INFORMATION: This notice announces that the FAA, in cooperation with the Columbus Regional Airport Authority (CRAA), will prepare an EIS for a proposed project to replace Runway 10R/28L at the Port Columbus International Airport, approximately 700 feet south of the existing Runway 10R/28L; new terminal facilities in the midfield area; ancillary in support of the replacement runway and midfield terminal; and noise abatement air traffic procedures developed for the replacement runway.

The replacement runway would be 10,113 feet long. This length would maintain the airport's ability to accommodate current and projected airport operations. Existing Runway 10R/28L would be decommissioned as a runway and converted into a taxiway upon commissioning of the replacement runway. In addition, a south taxiway and north parallel taxiways to proposed Runway 10R/28L would be constructed.

To meet future aircraft parking and passenger processing requirements, new midfield terminal facilities are needed. The EIS will assess a development envelope that is defined as an area large enough to encompass Phase I and II of the CRAA terminal development program. The number of gates, approximate square footage, approximate curb frontage, and the number of passengers that the terminal would accommodate will be discussed throughout the process.

Ancillary facilities in support of the replacement runway and midfield terminal would be constructed . The facilities include roadway relocations and construction; parking improvements; property acquisition; and relocation of residences, businesses, and farms, as necessary.

The CRAA is in the process of preparing a 14 CFR part 150 Noise Compatibility Study Update (Part 150 Update) to address the current and future noise conditions. The Part 150 Update will include an analysis of the potential noise and land use impacts resulting from the proposed development of relocating Runway 10R/28L to the south, as well as possible mitigation options. Any noise abatement air traffic options recommended through the Part 150 Update will be included in the EIS as part of the part of the proposed project. In addition, any land use mitigation that is recommended in the Part 150 Update for the proposed project will be included in the EIS.

The EIS will include the evaluation of a no action alternative and other reasonable alternatives that may be identified during the agency and public scoping meetings. The EIS will determine all environmental impacts, such as and not limited to, noise impacts, impacts on air and water quality, wetlands, ecological resources, floodplains, historic resources, hazardous wastes, socioeconomics, and economic factors.

Scoping: To resure that the full range of issues related to the proposed project is addressed and that all significant issues are identified, comments and suggestions are invited from all interested parties. Public and agency scoping meetings will be conducted to identify any significant issues associated with the proposed project.

An agency scoping meeting for all Federal, state, and local environmental regulatory agencies will be held on May 31, 2006. This meeting will take place at 10 a.m. in the Emergency Operations Center at the Port Columbus International Airport, 4600 International Gateway, Columbus, Ohio 43219.

Two public scoping meetings for the general public will be held on the evenings of May 31, 2006 and June 1, 2006. The meetings will be conducted at two locations, one at the Holiday Inn, 750 Stelzer Road, Columbus, OH 43219 and the other at the Ramda Inn, 4801 East Broad Street, Columbus, Ohio 43213. Both meetings will be held between 5 p.m. and 8 p.m.

Written comments may be mailed to the Informational contact listed above within 30 days following the scoping meetings.

Questions may be directed to the individual named above under the heading, FOR FURTHER INFORMATION CONTACT.

Issued in Romulus, Michigan, April 21, 2006.
Irene R. Porter,
Manager, Detroit Airports District Office, FAA, Great Lakes Region.

[FR Doc. 06-4037 Filed 4-28-06; 8:45 am]

BILLING CODE 4910-13-M